DEPARTMENT OF TRANSPORTATION

Federal Aviation Administration

14 CFR Part 73

[Docket No. FAA-2010-0693; Airspace Docket No. 10-ASW-6]

RIN 2120-AA66

Amendment of Restricted Area R-5113; Socorro, NM

AGENCY: Federal Aviation Administration (FAA), DOT.

ACTION: Final rule.

SUMMARY: This action changes the using agency of Restricted Area R-5113, Socorro, NM, to “U.S. Air Force, Air Force Research Laboratory.” There are no changes to the boundaries; designated altitudes; time of designation; or activities conducted within the affected restricted area.

DATES: Effective date 0901 UTC, November 18, 2010.

FOR FURTHER INFORMATION CONTACT: Colby Abbott, Airspace and Rules Group, Office of System Operations Airspace and AIM, Federal Aviation Administration, 800 Independence Avenue, SW., Washington, DC 20591; telephone: (202) 267-8783.

SUPPLEMENTARY INFORMATION:

History

On March 3, 2010, the U. S. Navy requested that the FAA change the name of the using agency for Restricted Area R-5113 at Socorro, NM, to “U.S. Air Force, Air Force Research Laboratory.” This change is required to reflect the change in the military service overseeing the continued lightning research work performed by New Mexico Tech University and the National Science Foundation.

The Rule

This action amends Title 14 Code of Federal Regulations (14 CFR) part 73 by amending the using agency for Restricted Area R-5113 at Socorro, NM, from “U.S. Navy, Office of Naval Research, Atmospheric Sciences” to “U.S. Air Force, Air Force Research Laboratory.” This is an administrative change and does not affect the boundaries, designated altitudes, or activities conducted within the restricted area; therefore, notice and public procedures under 5 U.S.C. 553(b) are unnecessary.

Section 73.51 of Title 14 CFR part 73 was republished in FAA Order 7400.8S, effective February 16, 2010.

The FAA has determined that this action only involves an established body of technical regulations for which frequent and routine amendments are necessary to keep them operationally current. Therefore, this regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart I, Section 40103. Under that section, the FAA is charged with prescribing regulations to assign the use of the airspace necessary to ensure the safety of aircraft and the efficient use of airspace. This regulation is within the scope of that authority as amends Restricted Area R-5113 in Socorro, NM.

Environmental Review

The FAA has determined that this action qualifies for categorical exclusion under the National Environmental Policy Act in accordance with FAA Order 1050.1E, Environmental Impacts: Policies and Procedures, paragraph 311d. This airspace action is an administrative change to the descriptions of the affected restricted area to update the using agency name. It does not alter the dimensions, altitudes, or times of designation of the airspace; therefore, it is not expected to cause any potentially significant environmental impacts, and no extraordinary circumstances exist that warrant preparation of an environmental assessment.

List of Subjects in 14 CFR Part 73

Airspace, Prohibited areas, Restricted areas.

Adoption of the Amendment

In consideration of the foregoing, the Federal Aviation Administration amends 14 CFR part 73, as follows:

PART 73—SPECIAL USE AIRSPACE

1. The authority citation for part 73 continues to read as follows:

Authority: 49 U.S.C. 106(g), 40103, 40113, 40120; E.O. 10854, 24 FR 9565, 3 CFR, 1959-1963 Comp., p. 389.

§ 73.51 [Amended]

2. Section 73.51 is amended as follows:

* * * * *

R-5113 Socorro, NM [Amended]

* * * * *

By removing the words “Using Agency. U.S. Navy, Office of Naval Research, Atmospheric Sciences” and inserting the words “Using Agency. U.S. Air Force, Air Force Research Laboratory.”

Issued in Washington, DC, on August 23, 2010.
Edith V. Parish,
Manager, Airspace and Rules Group.

[FR Doc. 2010-21928 Filed 9-1-10; 8:45 am]

BILLING CODE 4910-13-P